DEPARTMENT OF ENERGY

Federal Energy Regulatory Commission

[Docket Nos. ER06-1099-000; ER06-1099-001]

Midwest Independent Transmission System Operator, Inc.; Notice of Technical Conference

August 25, 2006.

Take notice that the Commission will convene a technical conference on September 26, 2006, from 9 a.m. to 4 p.m. (EST), in Hearing Room 4 at the offices of the Federal Energy Regulatory Commission, 888 First Street, NE., Washington, DC 20426.

The technical conference will address issues related to the Midwest ISO's proposed shortage and emergency procedures, as discussed in the Commission's August 4, 2006 Order in this proceeding.¹ Specifically the Commission directed Commission staff to examine the reserves impacted and circumstances associated with the different steps of the procedures, the development of the proxy price, the rationale for the pricing mechanism adopted, the application of market power mitigation within the process, the effects upon Revenue Sufficiency Guarantee payments, how demand response may or may not be integrated, and the effects upon reliability of the new procedures.² A report on the technical conference is due to the Commission no later than November 2, 2006.

¹ Midwest Indep. Transmission Sys. Operator, Inc., 116 FERC ¶ 61,124 (2006).

² Id. at 30.

Attached to this notice, in Attachment A, are questions to the Midwest ISO. Responses to these questions should be filed no later than September 15, 2006. The submitted information will be discussed at the technical conference and used to supplement the record. Attachment B lists topical areas that the Midwest ISO will be asked to address at the technical conference.

FERC conferences are accessible under section 508 of the Rehabilitation Act of 1973. For accessibility accommodations please send an e-mail to accessibility@ferc.gov or call toll free (866) 208-3372 (voice) or 202-502-8659 (TTY), or send a fax to 202-208-2106 with the required accommodations.

All intervening parties are permitted to attend. For further information please contact Laurel Hyde at (202) 502-8146 or e-mail laurel.hyde@ferc.gov or Melissa Nimit at (202) 502-6638 or e-mail melissa.nimit@ferc.gov.

Magalie R. Salas,
Secretary.

[FR Doc. E6-14401 Filed 8-29-06; 8:45 am]

BILLING CODE 6717-01-P